MORRIS K. UDALL AND STEWART L. UDALL FOUNDATION

Sunshine Act Meetings

TIME AND DATE: 9:00 a.m. to 2:00 p.m. (PDT), Wednesday, April 27, 2022.

PLACE: The University of Arizona President's Office Conference Room, Old Main, Room 200, 1200 East University Boulevard, Tucson, Arizona, 85721.

STATUS: This meeting will be open to the public. Members of the public who would like to attend this meeting may request remote access by contacting Elizabeth Monroe at monroe@udall.gov prior to April 27 to obtain the teleconference connection information.

MATTERS TO BE CONSIDERED: (1) Call to Order and Chair's Remarks; (2) University of Arizona's Remarks and Welcome; (3) Council on Environmental Quality's Remarks; (4) Executive Director's Remarks; (5) Consent Agenda Approval (Minutes of the October 28, 2021, Board of Trustees Meeting; Board Reports submitted for Data and Information Technology, Education Programs, Finance and Internal Controls, John S. McCain III National Center for Environmental Conflict Resolution, and Udall Center for Studies in Public Policy-Native Nations Institute for Leadership, Management, and Policy-The University of Arizona Libraries, Special Collections; resolution regarding Amendment of Operating Procedures of the Board of Trustees of the Morris K. Udall and Stewart L. Udall Foundation; and Board takes notice of any new and updated personnel policies and internal control methodologies); (6) Update on Udall Foundation-University of Arizona Collaborations; (7) Grants, Gifts, and Donations Update; (8) Office Relocation of Udall Foundation Tucson, Arizona Headquarters; (9) Recognition of Former Trustee and Former Executive Director; (10) Recognition of Long-Serving Board Officers; and (11) Trustee Ethics Training.

CONTACT PERSON FOR MORE INFORMATION: David P. Brown, Executive Director, 130 South Scott Avenue, Tucson, AZ 85701, (520) 901-8560.

Dated: April 12, 2022.
David P. Brown,
Executive Director, Morris K. Udall and Stewart L. Udall Foundation, and Federal Register Liaison Officer.

[FR Doc. 2022-08129 Filed 4-12-22; 4:15 pm]

BILLING CODE 6820-FN-P